DEPARTMENT OF AGRICULTURE

Forest Service

Settlement Land Transfers: Pueblo de San Ildefonso and Los Alamos County, Sante Fe National Forest, Los Alamos County/Rio Arriba/Santa Fe County, NM

AGENCY: Forest Service, USDA.

ACTION: Notice of intent to prepare an environmental impact statement.

SUMMARY: The U.S. Forest Service (FS) will prepare an environmental impact statement (EIS) on a proposed action that implements certain aspects of the Pueblo de San Ildefonso Claims Settlement Act of 2005 (Pub. L. 109-286). Portions of the Act considered in this analysis include mandated transfer of certain National Forest System lands to the Pueblo de San Ildefonso (about 7,058 acres), the Pueblo of Santa Clara (about 740 acres), and Los Alamos County (about 631 acres). Lands would be conveyed in exchange for an appraised monetary value. The legislation also requires the Forest Service to offer for purchase six parcels of National Forest System lands to Los Alamos County near the community (totaling about 324 acres), and to reconstruct Forest Road (FR) 416v to a high-clearance, Level 2 standard. Although these proposed actions have been mandated by the Act, the Santa Fe National Forest will conduct a National Environmental Policy Act environmental analysis to disclose the impacts of these actions, and to fully describe any discretionary actions that may also be included as part of the land transfers called for in the Act. However, under the Act, discretion is limited. A map of the area is located at the following Forest Service Web site: http://www.fs.fed.us/r3/sfe/projects/.

DATES: Comments concerning the project must be received by July 23, 2007. The draft environmental impact statement is expected in September of 2007 and the final environmental impact statement is expected in November 2007.

ADDRESSES: Send written comments to Sandy Hurlocker, District Ranger, U.S. Forest Service, Espanola Ranger District, P.O. Box 3307, Espanola, New Mexico, 87533. Electronic mail (e-mail) may be sent to comments-southwestern-santafe espanola@fs.fed.us and FAX may be sent to (505) 753-9411.

FOR FURTHER INFORMATION CONTACT: Sandy Hurlocker, District Ranger, Española, Espanola Ranger District, (505) 753-7331.

SUPPLEMENTARY INFORMATION:

Background: On September 27, 2006, the Pueblo de San Ildefonso Claims Settlement Act of 2005 was signed into law. The purpose of the Act is to resolve title claims asserted against the United States by the San Ildefonso Pueblo under the proceedings of the Indian Claims Act (Docket No 354). Other purposes of the Act related to this analysis are (1) The authorization of the Pueblo to acquire and the Forest Service to convey National Forest Systems lands as identified in the San Ildefonso Settlement Agreement (Settlement Area Lands), and (2) the authorization for the Secretary of the Agriculture to convey other lands out of the National Forest System in order to comply with an inter-Pueblo Agreement and the Los Alamos Agreement, which has been incorporated by the San Ildefonso Settlement Agreement and ratified by the Act. These additional lands include the Water System Lands, the Northern Tier Lands (to be acquired by the Santa Clara Pueblo), and the Los Alamos Townsite Lands.

The Act provides that the Settlement Area Land and the Northern Tier Lands shall be held by the Secretary of the Interior in trust for the benefit of each Pueblo. Lands acquired by Los Alamos County as Water System Lands become San Ildefonso Pueblo tribal lands if they were no longer needed for Los Alamos County's water facilities. Most of the Los Alamos Townsite lands are currently used for Los Alamos County water facilities, including Los Alamos Reservoir and dam, as well as water tanks. Except for the restrictions and reservations identified above, the Secretary of Agriculture does not propose to place any restrictions on future use of the Townsite lands, Settlement Area lands, Water System lands, or Northern Tier lands.

The Act also calls for reservation of a number of road easements to assure public access to lands that would otherwise be inaccessible to motorized vehicles once the conveyance takes place. For most of these reservations, existing roads provide adequate access and so only an administrative action is expected. However, as part of the Los Alamos Agreement, road improvement work must be completed to improve public access to the National Forest System lands adjoining the Settlement Area Lands prior to conveyance. The Act allows for reconstruction of FR 416v to a high clearance, Level 2 to provide this access.

Even though the Act requires these actions and so discretion is limited, the Santa Fe National Forest will study and disclose in an environmental impact statement the effects of the actions described in the Act that relate to the Secretary of Agriculture's authority to transfer lands and reconstruct Road 416v. Other actions to be undertaken by the Department of the Interior, the Pueblo de San Ildefonso, or Los Alamos have not been included in the scope of this proposal because they can be accomplished separately. A map of the area is located at the following Forest Service Web site: http://www.fs.fed.us/r3/sfe/projects/.

Proposed Action: The Santa Fe National Forest proposes the following:

• Convey the Settlement Area lands to the Pueblo de San Ildefonso (approximately 7,058 acres) located in: Township 20 north, Range 7 east, section 19, 20, 21, 28, 29, 30, 31, 32, 33; and Township 19 north, Range 7 east, sections 4, 5, 6, 7, 8, 9; New Mexico Principal Meridian.

• Convey the Water System lands to Los Alamos County (approximately 631 acres) located in Township 20 north, Range 7 east, section 31; Township 19 north, Range 7 east, sections 4, 5, 6, 7, 8, 9; Township 19 north, Range 6 east, section 1; New Mexico Principal Meridian.

• Convey the Northern Tier Lands to the Pueblo of Santa Clara (approximately 740 acres) located in Township 20 north, Range 7 east, sections 17, 18; New Mexico Principal Meridian.

• Offer for conveyance the Los Alamos Townsite lands to Los Alamos County. These six parcels total approximately 324 acres of National Forest System lands located in Township 19 north, Range 4 east, section 13; Township 19 north, Range 5 east, sections 3, 4, 5, 18; New Mexico Principal Meridian.

• Reconstruct FR 416v to a high clearance, Level 2, standard, following the existing route as much as practical. Reconstruction will require grading, culvert placement, and possible relocation of short segments.

• Ancillary actions that may be implemented along with the land transfers and road reconstruction. Examples include fence construction along boundary lines and road closures where roads no longer serve a purpose to the management of National Forests.

Lead Agency: The USDA Forest Service (FS) is the lead agency.

Responsible Official: The responsible Official is the Forest Supervisor, Santa Fe National Forest, 1474 Rodeo Road, P.O. Box 1689, Santa Fe, NM 87504-1689.

Decision Framework: The NEPA decision to be made is limited by the Act. Transfer or offering for sale of lands is mandated. Reconstruction of FR 416v is also mandated as an action that must be completed before the land conveyance can occur. However, the Forest will evaluate effects and develop mitigation measures and best management practices to implement during the road reconstruction and, where applicable, in the land conveyance.

Scoping Process: The scoping process will include appropriate public involvement activities during June/July 2007. Appropriate activities will occur once the Draft EIS is available for review, which is expected to occur in the late summer of 2007.

Preliminary Issues: Because the conveyance of land will not significantly change the expected land use of the transferred lands, no significant issues have been identified. Reconstruction of FR 416v has the potential to affect known cultural resource sites located within the existing roadway. Because the sites and road occupy land between a canyon wall and steep ground, options to avoid these sites are limited, and so data recovery is the likely method for mitigating impacts. No threatened or endangered species—or Region 3 sensitive species—of animal or plant are known in the project area. Likewise, no Region 3 sensitive species are known. Because the National Forest System lands would be closed to the general public once conveyed to the Pueblos, a change in recreational use patterns is likely. A closed pumice mine exists on the land to be conveyed to the San Ildefonso Pueblo, with reclamation underway. Any unfinished reclamation will pass to the Secretary of the Interior pursuant to the Act, Section 7(f).

Comment Requested: This notice of intent initiates the scoping process that guides the development of the environmental impact statement. The Forest Service invites written comments and suggestions on the proposed action, including any issues to consider, as well as any concerns relevant to the analysis.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: June 13, 2007.
Daniel J. Jiron,
Forest Supervisor, Santa Fe National Forest.

[FR Doc. 07-3058 Filed 6-21-07; 8:45 am]

BILLING CODE 3410-11-M